DEPARTMENT OF TRANSPORTATION

Federal Aviation Administration

[Docket No. FAA-2023-2221

Agency Information Collection Activities: Requests for Comments; Clearance of Renewed Approval of Information Collection: Notice of Proposed Outdoor Laser Operation(s)

AGENCY: Federal Aviation Administration (FAA), Department of Transportation (DOT).

ACTION: Notice and request for comments.

SUMMARY: In accordance with the Paperwork Reduction Act of 1995, FAA invites public comments about our intention to request the Office of Management and Budget (OMB) approval to renew information collection. The Federal Register Notice with a 60-day comment period soliciting comments on the following collection of information was published on December 22, 2023. The collection involves the gathering of information necessary for the FAA to ensure proposed outdoor laser operations will not interfere with air traffic operations. The information to be collected will be used to and/or is necessary because the FAA must evaluate proposed outdoor laser operations requiring a Food and Drug Administration (FDA) variance from Federal regulations for a laser light show, display, or device.

DATES: Written comments should be submitted by July 15, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Brian Konie by email at: brian.konie@faa.gov; phone: (202) 267-8783.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0662.

Title: Notice of Proposed Outdoor Laser Operation(s).

Form Numbers: FAA Form 7140-1.

Type of Review: Renewal of an information collection.

Background: The Federal Register Notice with a 60-day comment period soliciting comments on the following collection of information was published on December 22, 2023 (88 FR 88700). No laser light show, projection system, or device may vary from compliance with 21 CFR 1040.11(c) in design or use without the approval of an application for variance in accordance with 21 CFR 1010.4 using FDA Form 3147. In order to obtain a variance from 21 CFR 1040.11(c) for a laser light show, display, or device (as described on FDA Form 3147); advance written notification must be made as early as possible to appropriate federal, state, and local authorities providing show itinerary with dates and locations clearly and completely identified, and a basic description of the proposed effects including a statement of the maximum power output intended. Such notifications must be made, but not necessarily be limited, to the FAA for any projections into open airspace at any time (e.g., set up, alignment, rehearsals, and performances). If the FAA objects to any laser effects, the objections will be resolved and any conditions requested by FAA will be adhered to. If these conditions cannot be met, the objectionable effects will be deleted from the show.

FAA Advisory Circular (AC) 70-1B with Change 1, Outdoor Laser Operations, provides information for those proponents planning to conduct outdoor laser operations that may affect aircraft operations in the United States (U.S.) National Airspace System (NAS).¹ Additionally, the AC explains the necessity to notify the FAA, how to notify the FAA of the planned laser operation, and any action the FAA will take to respond to such notifications. Further, the AC includes instructions for completing FAA Form 7140-1, Notice of Proposed Outdoor Laser Operation(s).

¹ AC 70-1B with Change 1 is available via the internet at https://www.faa.gov/regulations_policies/advisory_circulars/index.cfm/go/document.information/documentID/1040741.

Respondents: Approximately 455 laser operations.

Frequency: One time per laser operation.

Estimated Average Burden per Response: Approximately four hours per form.

Estimated Total Annual Burden: Approximately 1,820 hours.

Issued in Washington, DC, on June 10, 2024.
Brian Eric Konie,
Manager, Airspace Rules & Regulations, AJV-P21, Air Traffic Organization.

[FR Doc. 2024-12976 Filed 6-12-24; 8:45 am]

BILLING CODE 4910-13-P